DEPARTMENT OF EDUCATION

Jacob K. Javits Gifted and Talented Students Education Program

AGENCY: Office of Elementary and Secondary Education, Department of Education.

ACTION: Notice of proposed priority: reopening of comment period.

SUMMARY: This document reopens the comment period for the proposed priority under the Jacob K. Javits Gifted and Talented Students Education Program that was published in the Federal Register (73 FR 2228) on January 14, 2008. The proposed priority would support the implementation of models with demonstrated effectiveness in identifying and serving gifted and talented students who are economically disadvantaged or limited English proficient, or who have disabilities, and who may not be identified and served through typical strategies for identifying gifted children. The original deadline for comments on the proposed priority was February 13, 2008. Due to administrative problems with the e-mail address listed in the notice of proposed priority, we are reopening the comment period until March 10, 2008 to give stakeholders more time to comment on the proposed priority.

DATES: We must receive your comments on or before March 10, 2008.

ADDRESSES: All comments concerning the proposed priority should be addressed to: Teresa Cahalan, U.S. Department of Education, 400 Maryland Avenue, SW., room 5W218, Washington, DC 20202-8245. If you prefer to send your comments through the Internet, use the following address: jacobk.javits@ed.gov.

You must include the term “Comments on FY 2008 Javits Priority” in the subject line of your electronic message.

FOR FURTHER INFORMATION CONTACT: Teresa Cahalan. Telephone: (202) 401-3947.

If you use a telecommunications device for the deaf (TDD), you may call the Federal Relay Service (FRS) at 1-800-877-8339.

Individuals with disabilities can obtain this document in an alternative format (e.g., Braille, large print, audiotape, or computer diskette) on request to the contact person listed under FOR FURTHER INFORMATION CONTACT.

SUPPLEMENTARY INFORMATION:

Electronic Access to This Document

You may view this document, as well as all other Department of Education documents published in the Federal Register, in text or Adobe Portable Document Format (PDF) on the Internet at the following site: http://www.ed.gov/news/fedregister. To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.206A Jacob K. Javits Gifted and Talented Students Education Program).

Program Authority: 20 U.S.C. 7253.

Dated: February 19, 2008.
Kerri L. Briggs,
Assistant Secretary for Elementary and Secondary Education.

[FR Doc. E8-3383 Filed 2-21-08; 8:45 am]

BILLING CODE 4000-01-P